DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On April 21, 2021, OFAC determined that the property and interests in property subject to U.S. jurisdiction of the following persons are blocked under the relevant sanctions authority listed below.

Entities

1. MYANMA TIMBER ENTERPRISE (a.k.a. MYANMAR TIMBER ENTERPRISE; f.k.a. STATE TIMBER BOARD; f.k.a. TIMBER CORPORATION), Gyogone Forest Compound, Bayint Naung Road, Insein Township, Rangoon, Burma; No. (72/74) Shawe Dagon Pagoda Road, Dagon Township, Rangoon, Burma; P.O. Box 206, Ahlone Street, Ahlone Township, Rangoon, Burma; Target Type State-Owned Enterprise [BURMA-EO14014]. Designated pursuant to section 1(a)(iv) of Executive Order 14014 of February 10, 2021, “Blocking Property With Respect to the Situation in Burma” (“the Order”) for being a political subdivision, agency, or instrumentality of the Government of Burma.

2. MYANMAR PEARL ENTERPRISE, Yazathingha Street, Zabuthri Township, Naypyitaw, Burma; No. 10, Strand Road, Kangyi Quarter, Myeik Township, Tanintharyi, Burma; 90 Kanbe St., Yankin Tsp., Rangoon, Burma; No. 4345 Bu Khwe, Naypyitaw, Burma; Target Type State-Owned Enterprise [BURMA-EO14014].

Designated pursuant to section 1(a)(iv) of the Order for being a political subdivision, agency, or instrumentality of the Government of Burma.

Dated: April 21, 2021.
Bradley T. Smith,
Acting Director, Office of Foreign Assets Control, U.S. Department of the Treasury.

[FR Doc. 2021-08599 Filed 4-23-21; 8:45 am]

BILLING CODE 4810-AL-P